DEPARTMENT OF COMMERCE

International Trade Administration

[A-570-890]

Wooden Bedroom Furniture From the People's Republic of China: Amended Final Results of Antidumping Duty Administrative Review

AGENCY: Import Administration, International Trade Administration, Department of Commerce.

SUMMARY: On August 11, 2011, the Department of Commerce (“Department”) published the final results of the antidumping duty administrative review of wooden bedroom furniture from the People's Republic of China (“PRC”).¹ The period of review (“POR”) is January 1, 2009, through December 31, 2009. We are amending our Final Results to correct certain ministerial errors.

¹ See Wooden Bedroom Furniture From the People's Republic of China: Final Results and Final Rescission in Part, 76 FR 49729 (August 11, 2011) (“Final Results”).

DATES: Effective Date: September 16, 2011.

FOR FURTHER INFORMATION CONTACT: Jeffrey Pedersen or Rebecca Pandolph, Import Administration, International Trade Administration, U.S. Department of Commerce, 14th Street and Constitution Avenue, NW., Washington, DC 20230; telephone: (202) 482-2769 or (202) 482-3627, respectively.

Background

The Department's regulations at 19 CFR 351.224(c)(2) state that a party to an antidumping duty proceeding must file comments concerning ministerial errors within five days after the earlier of the date on which the Secretary released disclosure documents to that party or held a disclosure meeting with that party. On August 10, 2011, Zhangjiagang Zheng Yan Decoration Co., Ltd. (“ZYD”) submitted a ministerial error allegation. On August 17, 2011, the Department issued draft cash deposit and liquidation instructions to all interested parties and set August 19, 2011, as the deadline for submitting comments on these instructions. On August 17, 2011, American Furniture Manufacturers Committee for Legal Trade and Vaughan-Bassett Furniture Company, Inc. (collectively, “Petitioners”); Home Meridian International, Inc. d/b/a/Samuel Lawrence Furniture Co. and Pulaski Furniture Company and Import Services, Inc. (“Home Meridian”) and Great Rich (HK) Enterprises Co., Ltd. (“Great Rich”) ² submitted timely ministerial error allegations regarding the Final Results. On August 19, 2011, both Petitioners and Dalian Huafeng Furniture Group Co., Ltd. (“Dalian Huafeng”) submitted comments regarding the liquidation instructions for Huafeng. On August 22, 2011, Petitioners and Dalian Huafeng replied to Home Meridian's August 17, 2011, submission. On August 31, 2011, the Department rejected Dalian Huafeng's August 22, 2011, reply to ministerial error comments because it contained a new allegation. On September 2, 2011, Dalian Huafeng refiled its reply comments after removing the new allegation in accordance with instructions from the Department.

² Great Rich refilled its allegation on August 22, 2011, because it incorrectly identified the POR on its August 17, 2011, submission as the POR for the subsequent administrative review covering January 1, 2010, through December 31, 2010.

Mowry and Grimson entered a notice of appearance on behalf of Liberty Furniture Industries Inc. (“Liberty”) on August 17, 2011. The law firm also submitted a ministerial error allegation on behalf of Liberty on that date. In its allegation, Liberty “signed on to the ministerial error comments” filed by Home Meridian. Because Liberty was not a party to the proceeding, the Department rejected its ministerial error allegation.³

³ See Letter to Liberty Furniture Industries, Inc. from Abdelali Elouaradia, Office Director, AD/CVD Operations, Office 4 regarding, “Administrative Review of the Antidumping Duty Order on Wooden Bedroom Furniture from the People's Republic of China: Ministerial Error Comments: Rejection of Submission,” dated August 31, 2011.

Ministerial Errors

A ministerial error, as defined in section 751(h) of the Tariff Act of 1930, as amended (“the Act”), includes “errors in addition, subtraction, or other arithmetic function, clerical errors resulting from inaccurate copying, duplication, or the like, and any other type of unintentional error which the administering authority considers ministerial.” ⁴

⁴ See also 19 CFR 351.224(f).

Petitioners allege that the Department: (1) Left out the word “Dongguan” when it listed the entity “Dongguan Cambridge Furniture Co., Ltd., Glory Oceanic Co., Ltd.” (“Cambridge”) in the rate table of the Final Results; (2) did not correctly account for Dalian Huafeng's name change in the cash deposit instructions and (3) should revise the liquidation instructions for Dalian Huafeng to include “reseller” language as is done in market economy cases. Great Rich alleges that the Department incorrectly spelled its name in the cash deposit instructions. Home Meridian alleges that the Department made an arithmetic error in determining the surrogate value for plywood. Dalian Huafeng agrees with Home Meridian's allegation and also alleges that the Department's liquidation instructions do not correctly account for its name change. Petitioners claim Home Meridian's and Dalian Huafeng's allegation regarding the surrogate value calculation for plywood does not constitute a ministerial error. ZYD alleges that the Department incorrectly listed its rate in the Final Results given that the Department had rescinded the review of ZYD.

After analyzing the interested parties' allegations and reply comments, we find, in accordance with section 751(h) of the Act and 19 CFR 351.225(e), that the Department: (1) Incorrectly listed Cambridge's name in Final Results; (2) misspelled Great Rich's name in the cash deposit instructions and the Final Results; and (3) incorrectly listed ZYD's rate as 41.75 percent in the Final Results when the company's rate should have remained unchanged. Therefore, in accordance with section 735(e) of the Act, we are amending the Final Results. Specifically, we are amending the entity name “Cambridge Furniture Co., Ltd., Glory Oceanic Co., Ltd.” that was listed in the Final Results to “Dongguan Cambridge Furniture Co., Ltd., Glory Oceanic Co., Ltd.” The antidumping duty percentage margin assigned to this entity has not changed. Also, we are amending the entity name “Dongguan Liaobushangdun Huada Furniture Factory, Great Rich (HK) Enterprise Co., Ltd.” that was listed in the Final Results to “Dongguan Liaobushangdun Huada Furniture Factory, Great Rich (HK) Enterprises Co., Ltd.” The antidumping duty percentage margin assigned to this entity has not changed. The above corrections are also reflected in the customs instructions. Lastly, we are amending the Final Results by removing Zhangjiagang Zheng Yan Decoration Co. Ltd. from the rate table and noting that this company should not have been listed as receiving an antidumping duty margin of 41.75 percent. The review of Zhangjiagang Zheng Yan Decoration Co. Ltd. was rescinded and thus this company's dumping margin remains unchanged. We will liquidate entries for ZYD during the instant POR at the cash deposit rate required at the time of entry. In addition, ZYD's cash deposit rate will not change as a result of this review but will remain the rate in effect at the time of entry. Correction of these ministerial errors does not affect the margin selected for the PRC-wide entity. However, we disagree that the Department made ministerial errors with respect to: (1) Accounting for Dalian Huafeng's name change in the customs instructions; and (2) calculating the surrogate value for plywood. Further, the Department does not consider Petitioners' comments regarding the omission of reseller language from the liquidation instructions for Dalian Huafeng to be a ministerial error allegation and is, therefore, not making any changes in response to Petitioners' comments. For a full explanation of each of these findings, see Memorandum to Abdelali Elouaradia, Director, AD/CVD Operations, Office 4 regarding, “Ministerial Error Allegations in the Final Results of the 2009 Antidumping Duty Administrative Review of Wooden Bedroom Furniture from the People's Republic of China,” dated concurrently with this notice.

Assessment

Pursuant to section 751(a)(2)(A) of the Act and 19 CFR 351.212(b), the Department shall determine, and U.S. Customs and Border Protection (“CBP”) shall assess, antidumping duties on all appropriate entries. The Department intends to issue assessment instructions to CBP that are related to the amended final results 15 days after the date of publication of the amended final results of review.

Cash Deposit Requirements

Cash deposit requirements related to the amended final results will be effective retroactively for all shipments of the subject merchandise entered, or withdrawn from warehouse, for consumption on or after the publication date of the Final Results, as provided for by section 751(a)(2)(C) of the Act. The cash deposit rate for companies whose rate was corrected by the amended final results (i.e., ZYD) will be the corrected rate for that company noted above. As noted above, ZYD's cash deposit rate will not change as a result of this review but will remain the rate in effect at the time of entry. For previously investigated or reviewed PRC and non-PRC exporters that have separate rates whose rate has not changed as a result of the amended final results, the cash deposit rate will continue to be the exporter-specific rate published for the most recent period. For all PRC exporters of subject merchandise which have not been found to be entitled to a separate rate, the cash deposit rate will be the PRC-wide rate of 216.01 percent. For all non-PRC exporters of subject merchandise which have not received their own rate, the cash deposit rate will be the rate applicable to the PRC exporters that supplied that non-PRC exporter. These deposit requirements shall remain in effect until further notice.

These amended final results are published in accordance with sections 751(h) and 777(i)(1) of the Act.

Dated: September 12, 2011.
Christian Marsh,
Acting Deputy Assistant Secretary for Import Administration.

[FR Doc. 2011-23832 Filed 9-15-11; 8:45 am]

BILLING CODE 3510-DS-P